DEPARTMENT OF DEFENSE

Department of the Navy

Notice of Performance Review Board Membership

AGENCY: Department of the Navy, DoD.

ACTION: Notice.

SUMMARY: Pursuant to 5 U.S.C. 4314(c) (4), the Department of Navy (DON) announces the appointment of members to the DON's numerous Senior Executive Service (SES) Performance Review Boards (PRBs). The purpose of the PRBs is to provide fair and impartial review of the annual SES performance appraisal prepared by the senior executive's immediate and second level supervisor; to make recommendations to appointing officials regarding acceptance or modification of the performance rating; and to make recommendations for performance bonuses and basic pay increases. Composition of the specific PRBs will be determined on an ad hoc basis from among the individuals listed below:

CAPT John Bruington

CAPT John Gearhart

Dr. Edward Franchi

Dr. Janine Davidson

Dr. John Pazik

Dr. Judith Lean

Dr. Julie Christodoulou

Dr. Lawrence Schuette

Dr. Michael Malanoski

Dr. Walter Jones

LtGen Mark Brilakis

LtGen Ronald Bailey

Mr. Anthony Cifone

Mr. Brian Persons

Mr. Bryan Wood

Mr. Donald McCormack, Jr.

Mr. Elliot Branch

Mr. Garry Newton

Mr. Gary Kessler

Mr. Gary Ressing

Mr. James McCarthy

Mr. James Meade

Mr. Jeff Bearor

Mr. Joe Ludovici

Mr. Luther Bragg

Mr. Mark Andress

Mr. Mark Honecker

Mr. Marty Simon

Mr. Michael Madden

Mr. Patrick Sullivan

Mr. Paul Lluy

Mr. Phillip Chudoba

Mr. Robert Hogue

Mr. Ronald Davis, Jr.

Mr. Sam Worth

Mr. Scott Lutterloh

Mr. Stephen Trautman

Mr. Steven Iselin

Mr. Steven Schulze

Mr. Stu Young

Mr. Todd Balazs

Mr. Todd Schafer

Mr. Victor Gavin

Mr. William Deligne

Ms. Allison Stiller

Ms. Ann-Cecile McDermott

Ms. Anne Brennan

Ms. Anne Davis

Ms. Carmela Keeney

Ms. Cindy Shaver

Ms. Dianne Boyle

Ms. Gloria Valdez

Ms. Jennifer LaTorre

Ms. Joan Johnson

Ms. Jodi Greene

Ms. Leslie Taylor

Ms. Lynn Wright

Ms. Mary Tompa

Ms. Sharon Smoot

RADM Brian Antonio

RADM John Neagley

RADM Robert Sharp

FOR FURTHER INFORMATION CONTACT: Tara Landis, Director, Executive Management Program Office, Office of Civilian Human Resources at 202 685-6186.

Dated: October 24, 2016.
C. Mora,
Commander, Judge Advocate General's Corps, U.S. Navy, Federal Register Liaison Officer.

[FR Doc. 2016-26099 Filed 10-27-16; 8:45 am]

BILLING CODE 3810-FF-P